DEPARTMENT OF HEALTH AND HUMAN SERVICES

National Institutes of Health

National Library of Medicine; Cancellation of Meeting

Notice is hereby given of the cancellation of the National Library of Medicine Special Emphasis Panel, July 11, 2007, 8:30 a.m. to July 11, 2007, 5 p.m., Embassy Suites at the Chevy Chase Pavilion, 4300 Military Road, NW., Washington, DC 20015 which was published in the Federal Register on March 28, 2007, 72 FR 14599.

Dated: April 11, 2007.
Jennifer Spaeth,
Director, Office of Federal Advisory Committee Policy.

[FR Doc. 07-1897 Filed 4-17-07; 8:45 am]

BILLING CODE 4140-01-M